DEPARTMENT OF HEALTH AND HUMAN SERVICES

National Institutes of Health

National Institute of Allergy and Infectious Diseases; Amended Notice of Meeting

Notice is hereby given of a change in the meeting of the National Institute of Allergy and Infectious Diseases Special Emphasis Panel, October 21, 2013, 8:00 a.m. to October 22, 2013, 4:00 p.m., Hilton Washington/Rockville, 1750 Rockville Pike, Regency Ballroom, Rockville, MD, 20852 which was published in the Federal Register on September 27, 2013, 78 FR 59707.

The meeting is amended to change the date of the meeting from Oct. 21-22, 2013 to Nov. 22, 2013 and Nov. 25, 2013. Telephone Conference Call, National Institutes of Health, 6700B Rockledge Dr., Bethesda, MD 20817 from 8:00 a.m. to 5:00 p.m. The meeting is closed to the public.

Dated: October 25, 2013.
David Clary,
Program Analyst, Office of Federal Advisory Committee Policy.

[FR Doc. 2013-25672 Filed 10-29-13; 8:45 am]

BILLING CODE 4140-01-P